NUCLEAR REGULATORY COMMISSION

Advisory Committee on Nuclear Waste; Notice of Meeting

The Advisory Committee on Nuclear Waste (ACNW) will hold its 165th meeting on November 14-16, 2005, Room T-2B3, Two White Flint North, 11545 Rockville Pike, Rockville, Maryland.

The schedule for this meeting is as follows:

Monday, November 14, 2005

8:30 a.m.-8:45 a.m.: Opening Statement (Open)—The ACNW Chairman will make opening remarks regarding the conduct of today's sessions.

8:45 a.m.-9:15 a.m.: Observations from the U.S. Environmental Protection Agency's (EPA's) October 2005 Public Meeting on its Proposed Revisions to 40 CFR Part 197 (Open)—EPA recently held public hearings on its proposed amendments to the public health and environmental radiation protection standards for Yucca Mountain, Nevada, found at 40 CFR Part 197. The Committee will receive a report from one of its Members who observed one of the public hearings.

9:15 a.m.-10 a.m.: U.S. Nuclear Regulatory Commission (NRC's) Plans for the Implementation of a Dose Standard After 10,000 Years (Open)—NRC is proposing to amend its regulations at 10 CFR Part 63 that govern the disposal of high-level radioactive wastes in a proposed geologic repository at Yucca Mountain. The proposed rule would implement EPA's proposed standards for doses that could occur after 10,000 years but within the period of geologic stability. The Committee will hear a presentation from and hold discussions with a representative from NRC's Office of Nuclear Materials Safety and Safeguards on the proposed revisions.

10:15 a.m.-12:15 p.m.: Reasonableness of the NRC Infiltration Assumption (Tentative) (Open)—NRC's proposed rule change at Part 63 also specifies a value to be used to represent climate change after 10,000 years, as called for by EPA. The Committee will hear presentations from and hold discussions with knowledgeable subject matter experts on the reasonableness of NRC's proposed infiltration assumption.

1:30 p.m.-5:30 p.m.: Public Comment Session (Open)—The Committee will hear presentations from and hold discussions with interested stakeholders on the issues discussed during the earlier sessions. Scheduled presenters include: Dr. Dade Moeller, Chairman of the Board, Dade Moeller and Associates; Dr. Thomas Tenforde, President, National Council on Radiation Protection; Dr. John Kessler, Manager, Electric Power Research Institute High-Level Waste and Spent Nuclear Fuel Program; and Mr. Martin Malsh, Esq. State of Nevada.

5:30 p.m.-6 p.m.: ACNW Roundtable Discussion (Open)—The Committee will review the matters discussed from the previous pubic sessions and decide whether it intends to provide advice to the Commission.

Tuesday, November 15, 2005

8:30 a.m.-8:45 a.m.: Opening Statement (Open)—The ACNW Chairman will make opening remarks regarding the conduct of today's sessions.

8:45 a.m.-10:45 a.m.: Reactive Transport Research (Open)—The Committee will hear presentations by and hold discussions with representatives of the NRC Office of Nuclear Regulatory Research staff and its contractors and the U.S. Geological Survey regarding work being performed by Sandia National Laboratories on radionuclide sorption in soils.

11 a.m.-12 noon: Preparation for Commission Briefing on January 11, 2006 (Open)—The Committee will review draft vu-graphs in preparation for the Commission Briefing on January 11, 2006.

1:30 p.m.-3 p.m.: Generalized Composite Modeling (Open)—The Committee will hear presentations by and hold discussions with representatives of the U.S. Geological Survey and the NRC Office of Nuclear Regulatory Research regarding demonstrations of the generalized composite approach to the modeling of reactive transport and insights from the Organization for Economic Cooperation and Development Nuclear Energy Agency Sorption Project Phase 2.

3 p.m.-4 p.m.: White Paper on Low-Level Radioactive Waste (Open)—The Committee will discuss preparation of a White Paper on Low-Level Radioactive Waste.

4:15 p.m.-5:30 p.m.: Preparation of ACNW Reports/Letters (Open)—The Committee will discuss proposed ACNW reports on matters considered during this meeting.

Wednesday, November 16, 2005

10 a.m.-10:15 a.m.: Opening Remarks by the ACNW Chairman (Open)—The ACNW Chairman will make opening remarks regarding the conduct of today's sessions.

10:15 a.m.-11:30 a.m.: Discussion of Possible Letters (Open)—The Committee will discuss prepared draft letters and determine whether letters would be written on topics discussed during the meeting.

11:30 a.m.-12 noon: Miscellaneous (Open)—The Committee will discuss matters related to the conduct of ACNW activities, and specific issues that were not completed during previous meetings, as time and availability of information permit. Discussions may include future Committee Meetings.

Procedures for the conduct of and participation in ACNW meetings were published in the Federal Register on October 11, 2005 (70 FR 59081). In accordance with these procedures, oral or written statements may be presented by members of the public. Electronic recordings will be permitted only during those portions of the meeting that are open to the public. Persons desiring to make oral statements should notify Ms. Sharon A. Steele, (Telephone 301-415-6805), between 7:30 a.m. and 4 p.m. ET, as far in advance as practicable so that appropriate arrangements can be made to schedule the necessary time during the meeting for such statements. Use of still, motion picture, and television cameras during this meeting will be limited to selected portions of the meeting as determined by the ACNW Chairman. Information regarding the time to be set aside for taking pictures may be obtained by contacting the ACNW office prior to the meeting. In view of the possibility that the schedule for ACNW meetings may be adjusted by the Chairman as necessary to facilitate the conduct of the meeting, persons planning to attend should notify Ms. Steele as to their particular needs.

Further information regarding topics to be discussed, whether the meeting has been canceled or rescheduled, the Chairman's ruling on requests for the opportunity to present oral statements and the time allotted, therefore can be obtained by contacting Ms. Steele.

ACNW meeting agenda, meeting transcripts, and letter reports are available through the NRC Public Document Room (PDR) at pdr@nrc.gov, or by calling the PDR at 1-800-397-4209, or from the Publicly Available Records System component of NRC's document system (ADAMS) which is accessible from the NRC Web site at http://www.nrc.gov/reading-rm/adams.html or http://www.nrc.gov/reading-rm/doc-collections/ (ACRS & ACNW Mtg schedules/agendas).

Video Teleconferencing service is available for observing open sessions of ACNW meetings. Those wishing to use this service for observing ACNW meetings should contact Mr. Theron Brown, ACNW Audiovisual Technician (301-415-8066), between 7:30 a.m. and 3:45 p.m. ET, at least 10 days before the meeting to ensure the availability of this service. Individuals or organizations requesting this service will be responsible for telephone line charges and for providing the equipment and facilities that they use to establish the video teleconferencing link. The availability of video teleconferencing services is not guaranteed.

Dated: October 28, 2005.
Andrew L. Bates,
Advisory Committee Management Officer.

[FR Doc. E5-6087 Filed 11-2-05; 8:45 am]

BILLING CODE 7590-01-P